OFFICE OF PERSONNEL MANAGEMENT

Excepted Service

AGENCY: Office of Personnel Management.

ACTION: Notice.

SUMMARY: This gives notice of positions placed under Schedule A, B, and C in the excepted service, as required by Civil Service Rule VI, Exceptions from the Competitive Service.

FOR FURTHER INFORMATION CONTACT: Pam Shivery, Director, Washington Service Center, Employment Service (202) 606-1015.

SUPPLEMENTARY INFORMATION: Appearing in the listing below are 1 Schedule A authority and the individual authorities established under Schedule C between January 1, 2002, and January 31, 2002. Future notices will be published on the fourth Tuesday of each month, or as soon as possible thereafter. A consolidated listing of all Excepted Service authorities as of June 30 is published each year.

Schedule A

Social Security Administration

Temporary and time-limited positions in the Ticket to Work and Work Incentives Advisor Panel. No Employees may be appointed after November 17, 2007. Effective November 19, 2001.

Schedule C

The following Schedule C authorities were established during January 2002:

Council on Environmental Quality

Special Assistant to the Chair, Council on Economic Quality. Effective January 11, 2002.

Department of Agriculture

Confidential Assistant to the Administrator, Farm Service Agency. Effective January 14, 2002.

Director, Intergovernmental Affairs to the Assistant Secretary for Congressional Relations. Effective January 17, 2002.

Staff Assistant to the Under Secretary for Marketing and Regulatory Programs. Effective January 24, 2002.

Confidential Assistant to the Administrator, Food and Nutrition Service. Effective January 25, 2002.

Confidential Assistant to the Assistant Secretary for Congressional Relations. Effective January 30, 2002.

Special Assistant to the Chief, Natural Resource Manager. Effective January 30, 2002.

Department of the Air Force (DOD)

Confidential Assistant to the General Counsel. Effective January 8, 2002.

Department of Commerce

Confidential Assistant to the Assistant Secretary for Export Administration. Effective January 2, 2002.

Legislative Affairs Specialist to the Director, Office of Legislative Affairs. Effective January 2, 2002.

Special Assistant to the Director, Executive Secretariat Staff. Effective January 2, 2002.

Special Assistant to the Deputy Assistant Secretary for Transportation and Machinery. Effective January 4, 2002.

Confidential Assistant to the Deputy Assistant Secretary for Export Promotion Services. Effective January 7, 2002.

Executive Assistant to the Under Secretary for Economic Affairs. Effective January 8, 2002.

Executive Assistant to the Under Secretary, International Trade Administration. Effective January 8, 2002.

Special Assistant to the Deputy Assistant Secretary for Energy, Environment and Materials. Effective January 9, 2002.

Director of External Affairs to the Director of Public and Constituent Affairs. Effective January 11, 2002.

Chief of Staff to the Under Secretary for Oceans and Atmospheres. Effective January 14, 2002.

Chief, Congressional Affairs to the Under Secretary for Economic Affairs. Effective January 14, 2002.

Special Advisor to the Under Secretary for Export Administration. Effective January 16, 2002.

Confidential Assistant to the Director of Legislative Affairs. Effective January 22, 2002.

Special Assistant to the Chief of Staff, Office of the Under Secretary for Oceans and Atmosphere. Effective January 25, 2002.

Senior Analyst to the Under Secretary for Economic Affairs. Effective January 25, 2002.

Department of Defense

Special Assistant (Joint Chiefs of Staff) to the Special Assistant to the Secretary of Defense (White House Liaison). Effective January 8, 2002.

Personal and Confidential Assistant to the Under Secretary of Defense (Comptroller). Effective January 8, 2002.

Special Assistant to the Principal Deputy Assistant Secretary of Defense (Legislative Affairs). Effective January 11, 2002.

Staff Assistant to the Under Secretary of Defense (Comptroller). Effective January 14, 2002.

Director, Management Initiatives to the Under Secretary of Defense (Personnel and Readiness). Effective January 15, 2002.

Writer-Editor to the Assistant Secretary of Defense (Public Affairs). Effective January 22, 2002.

Defense Fellow to the Special Assistant to the Secretary of Defense (White House Liaison). Effective January 25, 2002.

Public Affairs Specialist to the Assistant Secretary of Defense (Public Affairs). Effective January 29, 2002.

Defense Fellow to the Special Assistant to the Secretary of Defense (White House Liaison). Effective January 30, 2002.

Public Affairs Specialist to the Deputy Assistant Secretary of Defense (Public Affairs). Effective January 30, 2002.

Confidential Assistant to the Assistant Secretary of Defense (Health Affairs). Effective January 30, 2002.

Defense Fellow to the Special Assistant to the Secretary of Defense (White House Liaison). Effective January 30, 2002.

Defense Fellow to the Special Assistant to the Secretary of Defense (White House Liaison). Effective January 30, 2002.

Staff Assistant to the Special Assistant to the Secretary of Defense (White House Liaison). Effective January 30, 2002.

Department of Education

Special Assistant to the Assistant Secretary for Elementary and Secondary Education. Effective January 2, 2002.

Special Assistant to the Assistant Secretary for Elementary and Secondary Education. Effective January 2, 2002.

Special Assistant to the Assistant Secretary for Postsecondary Education. Effective January 9, 2002.

Secretary's Regional Representative, Region V to the Deputy Assistant Secretary for Regional Services. Effective January 9, 2002.

Special Assistant to the Deputy Assistant Secretary for Regional Services. Effective January 9, 2002.

Special Assistant to the Deputy Assistant Secretary for Intergovernmental, Constituent Relations and Corporate Liaison. Effective January 10, 2002.

Confidential Assistant to the Chief of Staff to the Under Secretary. Effective January 11, 2002.

Special Assistant to the Assistant Secretary for Vocational and Adult Education. Effective January 17, 2002.

Special Assistant to the Assistant Secretary for Management. Effective January 22, 2002.

Special Assistant to the Senior Advisor to the Secretary. Effective January 30, 2002.

Department of Energy

Special Projects Officer to the Director, Office of Public Affairs. Effective January 8, 2002.

Special Assistant to the Principal Deputy Assistant Secretary (Special Assistant for Congressional and Intergovernmental Affairs). Effective January 25, 2002.

Senior Policy Advisor for North American Affairs to the Assistant Secretary for Policy and International Affairs. Effective January 25, 2002.

Staff Assistant to the Assistant Secretary for Congressional and Intergovernmental Affairs. Effective January 30, 2002.

Department of Health and Human Services

Speechwriter to the Director of Speechwriting. Effective January 4, 2002.

Special Assistant to the Deputy Assistant Secretary for Legislation (Human Services). Effective January 4, 2002.

Special Assistant to the Principal Deputy Assistant Secretary for Children and Families. Effective January 8, 2002.

Secretary's Regional Representative for Intergovernmental Affairs to the Director of Intergovernmental Affairs. Effective January 11, 2002.

Special Assistant to the Administrator, Substance Abuse and Mental Health Services Administration. Effective January 11, 2002.

Secretary's Regional Representative, Philadelphia, PA to the Director of Intergovernmental Affairs. Effective January 15, 2002.

Secretary's Regional Representative to the Director of Intergovernmental Affairs. Effective January 25, 2002.

Senior Advisor to the Director, Indian Health Service. Effective January 25, 2002.

Congressional Liaison Specialist to the Deputy Assistant Secretary for Legislation (Congressional Liaison). Effective January 28, 2002.

Secretary's Regional Representative, Atlanta GA, Region IV to the Director of Intergovernmental Affairs. Effective January 30, 2002.

Secretary's Regional Representative, Chicago, IL-Region V to the Director of Intergovernmental Affairs. Effective January 30, 2002.

Department of Housing and Urban Development

Staff Assistant to the Assistant Secretary for Community Planning and Development. Effective January 2, 2002.

Staff Assistant to the Deputy Assistant Secretary for Congressional and Intergovernmental Relations. Effective January 3, 2002.

Special Assistant to the Director, Center for Faith Based and Community Initiatives. Effective January 29, 2002.

Advance Coordinator to the Director of Executive Scheduling. Effective January 30, 2002.

Special Assistant to the Assistant Secretary for Public and Indian Housing. Effective January 30, 2002.

Department of the Interior

White House Liaison to the Chief of Staff. Effective January 8, 2002.

Deputy Director to the Director, External and Intergovernmental Affairs. Effective January 14, 2002.

Hispanic Media Outreach Coordinator to the Director, Office of Communications. Effective January 25, 2002.

Special Assistant to the Secretary of Interior. Effective January 29, 2002.

Department of Justice

Staff Assistant to the Assistant Attorney General, Office of Justice Programs, Bureau of Justice Statistics. Effective January 8, 2002.

Attorney Advisor to the Assistant Attorney General, Civil Division. Effective January 8, 2002.

Special Counsel to the Assistant Attorney General, Antitrust Division. Effective January 8, 2002.

Attorney Advisor to the Assistant Attorney General, Environment and Natural Resources Division. Effective January 8, 2002.

Special Assistant to the Assistant Attorney General, Office of Legal Development. Effective January 8, 2002.

Deputy Administrator to the Administrator, Office of Juvenile Justice and Delinquency Prevention. Effective January 8, 2002.

Deputy Director to the Director, National Institute of Justice. Effective January 8, 2002.

Special Assistant to the Assistant Attorney General, Criminal Division. Effective January 25, 2002.

Special Assistant to the Assistant Attorney General, Criminal Division. Effective January 31, 2002.

Department of Labor

Special Assistant to the Assistant Secretary for Veterans' Employment and Training. Effective January 8, 2002.

Special Assistant to the Secretary of Labor. Effective January 8, 2002.

Special Assistant to the Director of 21st Century Office. Effective January 11, 2002.

Speech Writer to the Assistant Secretary for Public Affairs. Effective January 25, 2002.

Special Assistant to the Assistant Secretary for Veterans's Employment and Training. Effective January 25, 2002.

Special Assistant to the Deputy Assistant Secretary, Office of Labor Management Standards. Effective January 31, 2002.

Department of State

Staff Assistant to the Assistant Secretary for Equal Employment and Civil Rights. Effective January 8, 2002.

Staff Assistant to the Assistant Secretary, Equal Employment and Civil Rights. Effective January 9, 2002.

Special Assistant to the Assistant Secretary for African Affairs Bureau. Effective January 11, 2002.

Special Assistant to the Under Secretary for Public Diplomacy and Public Affairs. Effective January 11, 2002.

Staff Assistant to the Chief of Protocol. Effective January 14, 2002.

Special Assistant to the Chief of Protocol. Effective January 22, 2002.

Protocol Officer (Visits) to the Chief of Protocol. Effective January 22, 2002.

Department of Transportation

Special Assistant to the Chief of Staff. Effective January 31, 2002.

Department of the Treasury

Senior Advisor to the Assistant Secretary for Financial Institutions. Effective January 8, 2002.

Department of Veterans Affairs

Special Assistant (Deputy White House Liaison) to the Deputy Assistant Secretary for Public Affairs. Effective January 15, 2002.

Environmental Protection Agency

Special Assistant (Advance Person) to the Administrator. Effective January 17, 2002.

Federal Emergency Management Agency

Staff Assistant (Scheduling) to the Director of Federal Emergency Management Agency. Effective January 4, 2002.

Speech Writer to the Director, Public Affairs. Effective January 28, 2002.

National Endowment for the Arts

Director of Communications to the Chairman, National Endowment for the Arts. Effective January 8, 2002.

Office of Management and Budget

Special Assistant and Assistant General Counsel to the General Counsel. Effective January 11, 2002.

Special Assistant to the Associate Director for Information Technology and E-Government. Effective January 11, 2002.

Confidential Assistant to the Assistant Director for Administration. Effective January 31, 2002.

Office of Science and Technology Policy

Confidential Assistant (Director's Office) to the Chief of Staff and General Counsel. Effective January 8, 2002.

Executive Assistant for Policy and Intergovernmental Affairs to the General Counsel. Effective January 14, 2002.

Confidential Assistant to the Associate Director, Technology Division. Effective January 14, 2002.

Confidential Assistant to the Associate Director for Science. Effective January 14, 2002.

Small Business Administration

Deputy Director to the Director of Intergovernmental Affairs. Effective January 7, 2002.

Policy Advisor to the Administrator. Effective January 25, 2002.

Authority: 5 U.S.C. 3301 and 3302; E.O. 10577, 3 CFR 1954-1958 Comp., p .218.

Office of Personnel Management.
Kay Coles James,
Director.

[FR Doc. 02-3874 Filed 2-15-02; 8:45 am]

BILLING CODE 6325-38-U